DEPARTMENT OF COMMERCE

International Trade Administration

[A-570-504]

Petroleum Wax Candles From the People's Republic of China: Final Results of Antidumping Duty Administrative Review

AGENCY: Import Administration, International Trade Administration, Department of Commerce.

ACTION: Notice of final results of antidumping duty administrative review of petroleum wax candles from the People's Republic of China.

SUMMARY: On September 7, 2000, the Department of Commerce (the Department) published the preliminary results of the administrative review of the antidumping duty order on petroleum wax candles from the People's Republic of China (PRC) (65 FR 54224) (Preliminary Results). This review covers 21 respondents. The period of review is August 1, 1998 through July 31, 1999. Based on our analysis of the comments received, we have made no changes to the Preliminary Results and therefore continue to find that all 21 respondents should be assigned a dumping margin based upon the facts otherwise available. The final dumping margin for the reviewed firms is listed below in the section entitled “Final Results of the Review.”

EFFECTIVE DATE: March 13, 2001.

FOR FURTHER INFORMATION CONTACT: Matthew Renkey at (202) 482-2312 or Abdelali Elouaradia at (202) 482-1374, Import Administration, International Trade Administration, U.S. Department of Commerce, 14th Street and Constitution Avenue, NW., Washington, DC 20230.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (2000).

Background

On September 7, 2000, the Department published the Preliminary Results of the administrative review of the antidumping duty order on petroleum wax candles from the PRC. (65 FR 54224). We invited parties to comment on the Preliminary Results of the review. On October 12, 2000, the respondent Universal Candle Company, Ltd. (Universal) filed its case brief. On October 13, 2000, the petitioner, National Candle Association, and respondents Liaoning Native Product Import and Export Corporation and Tianjin Native Produce Imp. & Exp. Group Corp., Ltd. (Liaoning and Tianjin, respectively) filed their case briefs. On October 20, 2000, the petitioner and Universal filed rebuttal briefs. On November 1, 2000, a public hearing was held with respect to this review. The Department has conducted this administrative review in accordance with section 751 of the Act.

Scope of the Antidumping Duty Order

Merchandise covered by this review includes certain scented or unscented petroleum wax candles made from petroleum wax and having fiber or paper-cored wicks. They are sold in the following shapes: tapers, spirals, and straight-sided dinner candles; rounds, columns, pillars, votives; and various wax-filled containers. The products are currently classified under the Harmonized Tariff Schedule of the United States (HTSUS) item 3406.00.00. Although the HTSUS subheading is provided for convenience and customs purposes, our written description of the scope of the order remains dispositive.

Analysis of Comments Received

All issues raised in the case and rebuttal briefs by parties to this administrative review are addressed in the “Issues and Decision Memorandum” (Decision Memo) from Joseph A. Spetrini, Deputy Assistant Secretary, Import Administration, to Bernard T. Carreau, fulfilling the duties of Assistant Secretary for Import Administration, dated March 6, 2001, which is hereby adopted by this notice.

A list of the issues which parties have raised and to which we have responded, all of which are in the Decision Memo, is attached to this notice as an Appendix. Parties can find a complete discussion of all issues raised in this review and the corresponding recommendations in this public memorandum, which is on file in the Central Records Unit, room B-099 of the main Department building. In addition, a complete version of the Decision Memo can be accessed directly on the Web at http://ia.ita.doc.gov/frn/frnhome.htm. The paper copy and electronic version of the Decision Memo are identical in content.

Changes Since the Preliminary Results

Based on our review of comments received, we have made no changes in the margin for the final results.

Final Results of Review

We determine that the following margin exists for the period August 1, 1998, through July 31, 1999:

Petroleum Wax Candles

Manufacturer/exporter | Margin (percent)
People's Republic of China Country-Wide Rate | 54.21

Liquidation

The Department shall determine, and Customs shall assess, antidumping duties on all appropriate entries. The Department will issue appraisement instructions directly to Customs.

Cash Deposit Requirements

The following cash deposit requirements will be effective upon publication of this notice of final results of administrative review for all shipments of petroleum wax candles from the PRC entered, or withdrawn from warehouse, for consumption on or after the publication date, as provided for by section 751(a)(2)(C) of the Act: (1) For all PRC exporters, all of which were found not to be entitled to separate rates, the cash-deposit rate will be the PRC country-wide rate, which is 54.21 percent; and (2) for all non-PRC exporters of subject merchandise from the PRC, the cash-deposit rate will be the rate applicable to the PRC supplier of that exporter. These deposit requirements, when imposed, shall remain in effect until publication of the final results of the next administrative review.

Reminders

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: March 6, 2001.
Timothy J. Hauser,
Acting Under Secretary for International Trade.

Appendix

List of Issues

1. Use of Adverse Facts Available

2. Separate Rates

3. Cost Allocation Methodology/Adequacy of Information

4. Request for Issuance of Additional Supplemental Questionnaires

5. Options for Dumping Margin

6. Inappropriate Dumping Margin

[FR Doc. 01-6230 Filed 3-12-01; 8:45 am]

BILLING CODE 3510-DS-P